DEPARTMENT OF HEALTH AND HUMAN SERVICES

Centers for Disease Control and Prevention

[30DAY-46-00]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

Possible Estuary-Associated Syndrome (PEAS) Surveillance—Extension—National Center for Environmental Health (NCEH)—In 1997, scientists found a newly identified microorganism, the dinoflagellate Pfiesteria piscicida, in water samples taken from a bay tributary. The presence of large numbers of this organism (a bloom) was purportedly associated with observations of thousands of dead fish as well as with reports of a wide range of adverse human health effects. Reports of this purported association created excessive public concern about exposure to estuarine waters and a general distrust in seafood that prompted a flood of inquiries to public health and environmental quality agencies.

Since 1997, the Centers for Disease Control and Prevention (CDC) has been working with the States of Delaware, Florida, Maryland, North Carolina, South Carolina, and Virginia in a series of meetings, workshops, and conference calls to design, implement, evaluate, and revise surveillance activities to provide a quantitative estimate of the public health burden associated with responding to Pfiesteria-related events, including blooms, fish kills, and people with health complaints. Cooperative agreement funds were awarded to these states to develop a multi-state surveillance system to examine the effects of Pfiesteria blooms upon humans and to expand the scientific knowledge of the human health effects of Pfiesteria. Specifically, the states will quantify the burden of PEAS on their health agencies by enumerating the number of contacts involving public and professional requests for information as well as symptoms involved in self-reporting. In collaboration with the state health departments, NCEH has developed a standardized data collection instrument that the states may use to collect and store the surveillance data. NCEH has requested that the states report specific data elements back at regular intervals so that NCEH can compile the data and issue periodic aggregate reports. CDC/NCEH is requesting a 3-year clearance. The total annual burden hours are 99.

Type of burden | Number of respondents | Number of responses | Average burden/response (in hours)
Information only calls | 800 | 1 | 5/60
Symptomatic Reports—telephone interview | 80 | 1 | 25/60

Dated: June 8, 2000.
Nancy Cheal,
Acting Associate Director for Policy, Planning and Evaluation, Centers for Disease Control and Prevention (CDC).

[FR Doc. 00-15115 Filed 6-14-00; 8:45 am]

BILLING CODE 4163-18-P